DEPARTMENT OF LABOR

Employment and Training Administration

[TA-W-40,188 & NAFTA-05386]

GFC Foam, LLC, West Hazelton, PA; Notice of Affirmative Determination Regarding Application for Reconsideration

By letter of February 7, 20021, the United Steel Workers of America, District 10 requested administrative reconsideration of the Department of Labor's Notice of Negative Determination Regarding Eligibility to Apply for Worker Adjustment Assistance (TA-W-40,188) and NAFTA-Transitional Adjustment Assistance (NAFTA-05386). The denial notice were signed on December 31, 2001 and published in the Federal Register on January 11, 2002 (67 FR 1510 & 1511, respectively).

The petitioner believes that major customers are importing polyurethane foam and therefore requests that the Department of Labor survey all customers of the subject plant.

On review of the request for reconsideration, it has been determined that the Department will conduct a survey of the major declining customers of the subject plant.

Conclusion

After careful review of the application, I conclude that the claim is of sufficient weight to justify reconsideration of the Department of Labor's prior decision. The application is, therefore, granted.

Signed at Washington, DC, this 17th day of June 2002.
Edward A. Tomchick,
Director, Division of Trade Adjustment Assistance.

[FR Doc. 02-24109 Filed 9-20-02; 8:45 am]

BILLING CODE 4510-30-P